DEPARTMENT OF ENERGY

Federal Energy Regulatory Commission

[Docket No. RP04-156-000]

Northwest Pipeline Corporation; Notice of Petition for Grant of Temporary Limited Waiver of Tariff

February 10, 2004.

Take notice that on February 5, 2004, Northwest Pipeline Corporation (Northwest) tendered for filing a Petition for Grant of Temporary Limited Waiver of Tariff.

Northwest petitions the Commission to grant a temporary limited waiver of section 3.5 of the General Terms and Conditions of Northwest's FERC Gas Tariff to the extent necessary to allow Northwest to use new mainline meter facilities, to be installed at the expense of Piceance Natural Gas Inc. Northwest maintains that this would facilitate Northwest's receipt and blending of natural gas that fails to meet Northwest's gas quality specifications solely from the Foundation Creek receipt point, for a period of one year from the in-service date of the new meter facilities.

Northwest states that a copy of this filing has been served upon Northwest's jurisdictional customers and upon affected state regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-295 Filed 2-13-04; 8:45 am]

BILLING CODE 6717-01-P